FEDERAL RETIREMENT THRIFT INVESTMENT BOARD

Senior Executive Service Performance Review Board

AGENCY: Federal Retirement Thrift Investment Board.

ACTION: Notice.

SUMMARY: This notice announces the appointment of the members of the Senior Executive Service Performance Review Boards for the Federal Retirement Thrift Investment Board. The purpose of the Performance Review Boards is to view and make recommendations concerning proposed performance appraisals, ratings, and bonuses, and other appropriate personnel actions for members of the Senior Executive Service.

DATES: This notice is effective December 7, 2010.

FOR FURTHER INFORMATION CONTACT: Barbara Torres, Administrative Officer, at 202-942-1683.

SUPPLEMENTARY INFORMATION: Title 5, U.S. Code, 4314(c)(4), requires that the appointment of Performance Review Board members be published in the Federal Register before Board service commences. The following persons will serve on the Federal Retirement Thrift Investment Board's Performance Review Boards which will oversee the evaluation of the performance appraisals of the Senior Executive Service members of the Federal Retirement Thrift Investment Board: Mark A. Hagerty, Pamela-Jeanne Moran, James B. Petrick, Tracey A. Ray, Thomas J. Trabucco, and Renée Wilder.

Thomas K. Emswiler,
General Counsel, Federal Retirement Thrift Investment Board.

[FR Doc. 2010-30633 Filed 12-6-10; 8:45 am]

BILLING CODE 6760-01-P